ENVIRONMENTAL PROTECTION AGENCY

[FRL-7552-8]

Notice of Clarification of the Final National Pollutant Discharge Elimination System (NPDES) General Permit for the Eastern Portion of Outer Continental Shelf (OCS) of the Gulf of Mexico (GMG280000)

AGENCY: Environmental Protection Agency (EPA).

ACTION: Notice.

SUMMARY: The Regional Administrator (RA) of EPA Region 4 (the “Region”) is today issuing a notice of clarification to the final National Pollutant Discharge Elimination System (NPDES) general permit for the Eastern Portion of the Outer Continental Shelf (OCS) of the Gulf of Mexico (General Permit No. GMG280000), to address Notice of Intent (NOI) requirements for discharges covered by the permit after April 30, 2003. This permit was published at 63 FR 55745 on October 16, 1998, modified on March 14, 2001 at 66 FR 14988, and further revised on April 6, 2001 at 66 FR 18253 for discharges in the Offshore Subcategory of the Oil and Gas Extraction Point Source Category (40 CFR part 435, subpart A). The permit issued by Region 4, authorizes discharges from exploration, development, and production facilities located in and discharging to all Federal waters of the Gulf of Mexico seaward of the outer boundary of the territorial seas.

This notice is applicable to new oil and gas operations (operations), which obtained coverage under the existing general permit coverage after April 30, 2003, and existing operations requesting continued coverage. The purpose of the notice is to clarify the procedure for these operations to request coverage under a continued general permit, since it does not clearly discuss this procedure. The language in the current permit referring to April 30, 2003, as the deadline for existing operations to submit Notices of Intent (NOIs) requesting continued coverage under this permit has been deleted. The clarification applies to both existing and new operations. Also, the word “Subsequent” in the title of Part I.A.6. of the current permit has been replaced with the word “Continued.” The change is made because the language in this Section does not provide a procedure to obtain coverage under a subsequently issued (renewed) general permit. Part I.A.6. is clarified as discussed above:

6. Intent to be Covered by a Continued Permit

This permit shall expire on October 31, 2003. However, an expired general permit continues in force and effect until a new general permit is issued. Permittees must submit a new (a second) NOI in order to continue coverage under this general permit after it expires. In lieu of providing the information required by paragraph 4. of the section, the permittee may submit a list of facilities covered by the general permit and their associated permit coverage numbers. Facilities that have not submitted another NOI under the permit by the expiration date cannot become authorized to discharge under any continuation of this NPDES general permit. All NOI's from permittees requesting coverage under a continued permit should be sent by certified mail to: Director, Water Management Division, U.S. EPA, Region 4, Sam Nunn Atlanta Federal Center, 61 Forsyth Street, SW., Atlanta, GA 30303-8960.

DATES: This clarification is effective September 8, 2003.

FOR FURTHER INFORMATION CONTACT: Karrie-jo Robinson-Shell, USEPA, Region 4, NPDES and Biosolids Permits Section at (404) 562-9308 or by e-mail at shell.karrie-jo@epa.gov.

Gail Mitchell,
Acting Director, Water Management Division.

[FR Doc. 03-22768 Filed 9-5-03; 8:45 am]

BILLING CODE 6560-50-P